DEPARTMENT OF ENERGY

Federal Energy Regulatory Commission

[Docket No. ER00-1177-001, et al.]

AmerGen Energy Company, L.L.C., et al.; Electric Rate and Corporate Regulation Filings

July 31, 2000.

Take notice that the following filings have been made with the Commission:

1. AmerGen Energy Company, L.L.C.

[Docket No. ER00-1177-001]

Take notice on July 26, 2000, AmerGen Energy Company, L.L.C., tendered an amended filing of Reactive Power Compensation Agreement with GPU Energy under its FERC Electric Tariff Original Volume No. 1.

AmerGen is requesting an effective date of December 21, 1999, for the Reactive Power Compensation Agreement.

Comment date: August 16, 2000, in accordance with Standard Paragraph E at the end of this notice.

2. Idaho Power Company

[Docket No. ER00-3271-000]

Take notice that on July 26, 2000, Idaho Power Company (IPC), tendered for filing with the Federal Energy Regulatory Commission a Service Agreement under Idaho Power Company FERC Electric Tariff No. 6, Market Rate Power Sales Tariff, Idaho Power Company and Basin Electric Power Cooperative.

Comment date: August 16, 2000, in accordance with Standard Paragraph E at the end of this notice.

3. Mississippi Power Company

[Docket No. ER00-3270-000]

Take notice that on July 26, 2000, Mississippi Power Company (Mississippi Power), tendered for filing a Transmission Interconnection Agreement with International Paper Company. The agreement will permit International Paper Company to interconnect its generating facilities at its Moss Point, Mississippi mill with the transmission facilities of Mississippi Power Company.

Copies of the filing were served upon International Paper Company, the Mississippi Public Service Commission, and the Mississippi Public Utilities Staff.

Comment date: August 16, 2000, in accordance with Standard Paragraph E at the end of this notice.

4. XENERGY, Inc.

[Docket No. ER00-3272-000]

Take notice that on July 26, 2000, XENERGY, Inc. (XENERGY), tendered for filing pursuant to Section 35.15 of the Commission's Regulations, 18 CFR 35.15, a Notice of Cancellation of its market-based rate tariff. XENERGY requests that the Notice of Cancellation be deemed effective as of July 27, 2000. To the extent required to give effect to the Notice of Cancellation, XENERGY requests waiver of the notice requirements pursuant to Section 35.15 of the Commission's Regulations, 18 CFR 35.15.

Comment date: August 16, 2000, in accordance with Standard Paragraph E at the end of this notice.

5. MidAmerican Energy Company

[Docket No. ER00-3273-000]

Take notice that on July 26, 2000, MidAmerican Energy Company (MidAmerican), 666 Grand Avenue, Des Moines, Iowa 50309, filed with the Commission a First Amendment to Service Agreement (Amendment), dated July 10, 2000, entered into by MidAmerican and the Resale Power Group of Iowa, pursuant to MidAmerican's Rate Schedule for Power Sales, FERC Electric Tariff, Original Volume No. 5 (FERC Docket No. ER96-719-000; amended in FERC Docket No. ER00-2051-000).

MidAmerican requests an effective date of July 27, 2000, for the Amendment and seeks a waiver of the Commission's notice requirement.

MidAmerican has served a copy of the filing on the Resale Power Group of Iowa, the Iowa Utilities Board, the Illinois Commerce Commission and the South Dakota Public Utilities Commission.

Comment date: August 16, 2000, in accordance with Standard Paragraph E at the end of this notice.

6. Allegheny Power Service Corporation, on behalf of Monongahela Power Company The Potomac Edison Company, and West Penn Power Company (Allegheny Power)

[Docket No. ER00-3274-000]

Take notice that on July 26, 2000 Allegheny Power Service Corporation on behalf of Monongahela Power Company, The Potomac Edison Company and West Penn Power Company (Allegheny Power), tendered Service Agreement No. 318 to add Washington Gas Energy Services, Inc., to Allegheny Power's Open Access Transmission Service Tariff. The proposed effective date under the agreement is July 25, 2000.

Copies of the filing have been provided to the Public Utilities Commission of Ohio, the Pennsylvania Public Utility Commission, the Maryland Public Service Commission, the Virginia State Corporation Commission, and the West Virginia Public Service Commission.

Comment date: August 16, 2000, in accordance with Standard Paragraph E at the end of this notice.

7. Allegheny Power Service Corporation, The Potomac Edison Company, and West Penn Power Company (Allegheny Power) on behalf of Monongahela Power Company

[Docket No. ER00-3275-000]

Take notice that on July 26, 2000, Allegheny Power Service Corporation on behalf of Monongahela Power Company, The Potomac Edison Company and West Penn Power Company (Allegheny Power), tendered for filing Service Agreement No. 317 to add SmartEnergy.com, Inc. to Allegheny Power's Open Access Transmission Service Tariff.

The proposed effective date under the agreement is July 25, 2000.

Copies of the filing have been provided to the Public Utilities Commission of Ohio, the Pennsylvania Public Utility Commission, the Maryland Public Service Commission, the Virginia State Corporation Commission, and the West Virginia Public Service Commission.

Comment date: August 16, 2000, in accordance with Standard Paragraph E at the end of this notice.

8. Kentucky Utilities Company

[Docket No. ER00-3266-000]

Take notice that on July 26, 2000, Kentucky Utilities Company (KU), tendered for filing several executed contracts with its wholesale customers under which the customers are to receive the benefit of power made available to them from the Southeastern Power Administration.

Comment date: August 16, 2000, in accordance with Standard Paragraph E at the end of this notice.

9. Florida Power & Light Company

[Docket No. ER00-3267-000]

Take notice that on July 26, 2000, Florida Power & Light Company (FPL), tendered for filing proposed service agreements with TXU Energy Trading Company for Non-Firm transmission service and Firm transmission service under FPL's Open Access Transmission Tariff.

FPL requests that the proposed service agreements are permitted to become effective on July 24, 2000.

FPL states that this filing is in accordance with Section 35 of the Commission's Regulations.

Comment date: August 16, 2000, in accordance with Standard Paragraph E at the end of this notice.

10. Montana Power Company

[Docket No. ER00-3268-000]

Take notice that on July 26, 2000, Montana Power Company (Montana), tendered for filing with the Federal Energy Regulatory Commission pursuant to 18 CFR 35.13 an unexecuted Network Integration Transmission Service Agreement with Stimson Lumber Company Open Access Transmission Tariff).

A copy of the filing was served upon Stimson Lumber Company.

Comment date: August 16, 2000, in accordance with Standard Paragraph E at the end of this notice.

11. American Electric Power Service Corporation

[Docket No. ER00-3269-000]

Take notice that on July 26, 2000, the American Electric Power Service Corporation (AEPSC), tendered for filing an executed Firm Point-to-Point Transmission Service Agreement for Duke Energy Trading and Marketing, L.L.C. and an executed ERCOT Ancillary Services Agreement for Sharyland Utilities, L.P. Both of these agreements are pursuant to the AEP Companies' Open Access Transmission Service Tariff (OATT) that has been designated as the Operating Companies of the American Electric Power System FERC Electric Tariff Revised Volume No. 6, effective June 15, 2000.

AEPSC requests waiver of notice to permit the Service Agreements to be made effective for service billed on and after July 1, 2000.

A copy of the filing was served upon the Parties and the state utility regulatory commissions of Arkansas, Indiana, Kentucky, Louisiana, Michigan, Ohio, Oklahoma, Tennessee, Texas, Virginia and West Virginia.

Comment date: August 16, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-19963 Filed 8-7-00; 8:45 am]

BILLING CODE 6717-01-P